DEPARTMENT OF ENERGY

Federal Energy Regulatory Commission

Combined Notice of Filings #2

Take notice that the Commission received the following electric rate filings:

Docket Numbers: ER10-2172-011; ER11-2016-006; ER10-2184-011; ER10-2183-008; ER10-1048-008; ER10-2176-012; ER10-2192-011; ER11-2056-005; ER10-2178-011; ER10-2174-011; ER11-2014-008; ER11-2013-008; ER10-3308-010; ER10-1017-007; ER10-1020-007; ER10-1145-007; ER10-1144-006; ER10-1078-007; ER10-1079-007; ER10-1080-007; ER11-2010-008; ER10-1081-007; ER10-2180-011; ER11-2011-007; ER11-2009-007; ER11-3989-006; ER10-1143-007; ER11-2780-004; ER11-2007-006; ER12-1223-005; ER11-2005-008.

Applicants: Constellation Energy Commodities Group, Inc., Commonwealth Edison Company, PECO Energy Company, Wind Capital Holdings, LLC, Constellation Power Source Generation LLC, Safe Harbor Water Power Corporation, Handsome Lake Energy, LLC, Constellation Energy Commodities Group Maine, LLC, Exelon Framingham LLC, Exelon New England Power Marketing, LP, Exelon New Boston, LLC, Exelon West Medway, LLC, Exelon Wyman, LLC, Constellation NewEnergy, Inc., Exelon Generation Company, LLC, Exelon Energy Company, CER Generation, LLC, CER Generation II, LLC, Constellation Mystic Power, LLC, Cassia Gulch Wind Park LLC, Michigan Wind 1, LLC, Tuana Springs Energy, LLC, Harvest Windfarm, LLC, CR Clearing, LLC, Exelon Wind 4, LLC, Cow Branch Wind Power, L.L.C., Michigan Wind 2, LLC, Criterion Power Partners, LLC, Wildcat Wind, LLC, Baltimore Gas and Electric Company.

Description: Supplemental Information to July 6, 2012 Notice of Change in Status of Baltimore Gas and Electric Company, et al.

Filed Date: 11/20/12.

Accession Number: 20121120-5137.

Comments Due: 5 p.m. ET 12/11/12.

Docket Numbers: ER13-214-002.

Applicants: Middletown Cogeneration Company LLC.

Description: Middletown Cogeneration Company LLC submits tariff filing per 35.17(b): Middletown Deficiency Filing to be effective 12/1/2012.

Filed Date: 11/20/12.

Accession Number: 20121120-5085.

Comments Due: 5 p.m. ET 11/30/12.

Docket Numbers: ER13-215-002.

Applicants: Haverhill Cogeneration Company LLC.

Description: Haverhill Cogeneration Company LLC submits tariff filing per 35.17(b): Haverhill Deficiency Filing to be effective 12/1/2012.

Filed Date: 11/20/12.

Accession Number: 20121120-5084.

Comments Due: 5 p.m. ET 11/30/12.

Docket Numbers: ER13-422-000.

Applicants: Golden Spread Electric Cooperative, Inc.

Description: Revised Wholesale Power Contracts Filing to be effective 1/20/2013.

Filed Date: 11/20/12.

Accession Number: 20121120-5039.

Comments Due: 5 p.m. ET 12/11/12.

Docket Numbers: ER13-423-000.

Applicants: Central Maine Power Company, ISO New England Inc.

Description: Notice of Termination of Sisk Wind Power LGIA to be effective 2/5/2013.

Filed Date: 11/20/12.

Accession Number: 20121120-5051.

Comments Due: 5 p.m. ET 12/11/12.

Docket Numbers: ER13-424-000.

Applicants: Southern California Edison Company.

Description: Southern California Edison Company submits tariff filing per 35.15: Notices of Cancellation of GIA and DSA SunEdison 6631 Westminster Blvd. Roof Top to be effective 6/27/2012.

Filed Date: 11/20/12.

Accession Number: 20121120-5067.

Comments Due: 5 p.m. ET 12/11/12.

Docket Numbers: ER13-425-000.

Applicants: Southern California Edison Company.

Description: Southern California Edison Company submits tariff filing per 35.15: Notices of Cancellation of GIA and DSA SunEdison 4200 Chino Hills Roof Top Solar to be effective 6/27/2012.

Filed Date: 11/20/12.

Accession Number: 20121120-5069.

Comments Due: 5 p.m. ET 12/11/12.

Docket Numbers: ER13-426-000.

Applicants: Smoky Mountain Transmission LLC.

Description: Smoky Mountain Transmission LLC submits tariff filing per 35.13(a)(2)(iii: Tariff filing to be effective 11-20-2012.

Filed Date: 11/20/12.

Accession Number: 20121120-5078.

Comments Due: 5 p.m. ET 12/11/12.

Docket Numbers: ER13-427-000.

Applicants: Kincaid Generation, L.L.C.

Description: Kincaid Generation, L.L.C. submits tariff filing per 35.1: New Baseline Refile to be effective 11/21/2012.

Filed Date: 11/20/12.

Accession Number: 20121120-5087.

Comments Due: 5 p.m. ET 12/11/12.

Docket Numbers: ER13-428-000.

Applicants: Pennsylvania Electric Company, PJM Interconnection, L.L.C.

Description: Pennsylvania Electric Company submits tariff filing per 35.13(a)(2)(iii): FirstEnergy submits PJM Service Agreement No. 3440 to be effective 12/31/1998.

Filed Date: 11/20/12.

Accession Number: 20121120-5102.

Comments Due: 5 p.m. ET 12/11/12.

Docket Numbers: ER13-429-000.

Applicants: New York State Electric & Gas Corporation.

Description: New York State Electric & Gas Corporation submits tariff filing per 35.13(a)(2)(iii): Normal adding rate schedule 193 to be effective 12/31/9998.

Filed Date: 11/20/12.

Accession Number: 20121120-5103.

Comments Due: 5 p.m. ET 12/11/12.

Docket Numbers: ER13-430-000.

Applicants: South Carolina Electric & Gas Company.

Description: South Carolina Electric & Gas Company submits tariff filing per 35.13(a)(2)(iii: Attachment C Edited for Losses to be effective 11/20/2012.

Filed Date: 11/20/12.

Accession Number: 20121120-5104.

Comments Due: 5 p.m. ET 12/11/12.

Docket Numbers: ER13-431-000.

Applicants: Elwood Energy, LLC.

Description: Elwood Energy, LLC submits tariff filing per 35.1: New Baseline Refile to be effective 11/21/2012.

Filed Date: 11/20/12.

Accession Number: 20121120-5125.

Comments Due: 5 p.m. ET 12/11/12.

Docket Numbers: ER13-432-000.

Applicants: Entergy Services, Inc.

Description: Entergy Services, Inc. submits Pro Forma amendments to the System Agreement for Midwest Independent System Transmission Operator, Inc. Integration.

Filed Date: 11/20/12.

Accession Number: 20121120-5126.

Comments Due: 5 p.m. ET 1/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2012.
Nathaniel J. Davis, Sr.,
Deputy Secretary.

[FR Doc. 2012-28956 Filed 11-29-12; 8:45 am]

BILLING CODE 6717-01-P